DEPARTMENT OF ENERGY

[Docket No. EERE-2008-BT-TP-0017]

RIN 1904-AB87

Proposed Information Collection; Comment Request; Certification, Compliance, and Enforcement Requirements for Consumer Products and Certain Commercial and Industrial Equipment

AGENCY: Office of Energy Efficiency and Renewable Energy, Department of Energy.

ACTION: Notice.

SUMMARY: The U.S. Department of Energy (DOE), as part of its continuing effort to reduce paperwork and respondent burden, invites the general public and other Federal agencies to take this opportunity to comment on the proposed information collection described in this notice, as required by the Paperwork Reduction Act of 1995.

DATES: Written comments must be submitted on or before May 10, 2010.

ADDRESSES: Direct all written comments to Ever Crutchfield or Christina Rouleau, Information Management (IM-23), U.S. Department of Energy, Room 4002/4003, 19901 Germantown Rd., Germantown, MD 20874 (or via the Internet at Ever.Crutchfield@hq.doe.gov or Christina.Rouleau@hq.doe.gov).

FOR FURTHER INFORMATION CONTACT: Requests for additional information or copies of the information collection instrument and instructions should be directed to Linda Graves, (202) 586-1851 or Linda.Graves@ee.doe.gov.

SUPPLEMENTARY INFORMATION:

I. Background

The Energy Policy and Conservation Act (EPCA) establishes energy and water conservation standards and test procedures for consumer products and certain commercial and industrial equipment, including metal halide ballasts. DOE is publishing regulations to amend the test procedure for metal halide ballasts and establish requirements for the submission of compliance statements and certification reports for these ballasts. These regulations appear elsewhere in today's Federal Register.

The information that would be required by these regulations, if finalized, and that is the subject of this proposed collection of information, would be submitted by manufacturers to certify compliance with energy efficiency standards established by DOE for metal halide lamp ballasts. DOE would also use the information to determine whether an enforcement action is warranted.

II. Method of Collection

Respondents have a choice of either electronic or paper forms. Methods of submittal include e-mail of electronic forms, and mail and facsimile transmission of paper forms.

III. Data

OMB Control Number: To be determined.

Form Number: None.

Type of Review: Regular submission.

Affected Public: Manufacturers of metal halide lamp ballasts.

Estimated Number of Respondents: 148.

Estimated Time per Response: Certification reports and compliance statements, 160 hours.

Estimated Total Annual Burden Hours: 23,680.00.

Estimated Total Annual Cost to Public: $1,776,000.00 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Issued in Washington, DC on February 19, 2010.
Cathy Zoi,
Assistant Secretary, Energy Efficiency and Renewable Energy.

[FR Doc. 2010-3837 Filed 3-8-10; 8:45 am]

BILLING CODE 6450-01-P